DEPARTMENT OF TRANSPORTATION

Federal Aviation Administration

14 CFR Part 39

[Docket No. FAA-2006-23935; Directorate Identifier 2005-NM-060-AD; Amendment 39-14492; AD 2006-04-11]

RIN 2120-AA64

Airworthiness Directives; Airbus Model A321-100 Series Airplanes

AGENCY: Federal Aviation Administration (FAA), Department of Transportation (DOT).

ACTION: Final rule; request for comments.

SUMMARY: The FAA is superseding an existing airworthiness directive (AD), which applies to certain Airbus Model A321-111, -112, and -131 series airplanes. That AD currently requires repetitive inspections to detect fatigue cracking in the area surrounding certain attachment holes of the forward pintle fittings of the main landing gear (MLG) and the actuating cylinder anchorage fittings on the inner rear spar; and repair, if necessary. The existing AD also provides for optional terminating action for the repetitive inspections. This AD adds inspections of three additional mounting holes and revises the thresholds for the currently required inspections. This AD results from manufacturer analysis of the fatigue and damage tolerance of the area surrounding certain mounting holes of the MLG. We are issuing this AD to detect and correct fatigue cracking on the inner rear spar of the wings, which could result in reduced structural integrity of the airplane.

DATES: This AD becomes effective March 8, 2006.

The Director of the Federal Register approved the incorporation by reference of certain publications listed in the AD as of March 8, 2006.

The incorporation by reference of Airbus Service Bulletin A320-57-1101, Revision 02, dated October 25, 2001, as listed in the regulations, was approved previously by the Director of the Federal Register as of April 21, 2004 (69 FR 17906, April 6, 2004).

The incorporation by reference of Airbus Service Bulletin A320-57-1101, dated July 24, 1997, as listed in the regulations, was approved previously by the Director of the Federal Register as of December 18, 1998 (63 FR 66753, December 3, 1998).

We must receive comments on this AD by April 24, 2006.

ADDRESSES: Use one of the following addresses to submit comments on this AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Airbus, 1 Rond Point Maurice Bellonte, 31707 Blagnac Cedex, France, for service information identified in this AD.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Discussion

On March 25, 2004, we issued AD 2004-07-15, amendment 39-13559 (69 FR 17906, April 6, 2004), for certain Airbus Model A321-111, -112, and -131 series airplanes. That AD requires repetitive inspections to detect fatigue cracking in the area surrounding certain attachment holes of the forward pintle fittings of the main landing gear (MLG) and the actuating cylinder anchorage fittings on the inner rear spar; and repair, if necessary. That AD also provided for optional terminating action for the repetitive inspections. That AD resulted from a fleet survey by the manufacturer. We issued that AD to detect and correct fatigue cracking on the inner rear spar of the wings, which could result in reduced structural integrity of the airplane.

Actions Since Existing AD Was Issued

Since we issued AD 2004-07-15, Airbus conducted further analysis of the fatigue and damage tolerance of the mounting holes of the inner rear spar of the wing. The results of the analysis revealed that three more mounting holes require inspection and that it is necessary to decrease the thresholds of the repetitive inspections already required by AD 2004-07-15.

Relevant Service Information

Airbus has issued Service Bulletin (SB) A320-57-1101, Revision 04, dated November 22, 2004. (AD 2004-07-15 refers to Airbus SB A320-57-1101, dated July 24, 1997; and Revision 02, dated October 25, 2001; as appropriate sources of service information for the actions required by that AD.) SB A320-57-1101, Revision 04, describes procedures for performing repetitive ultrasonic inspections for fatigue cracking in the area around certain mounting holes on the inner rear spar of the wings. The thresholds specified in SB A320-57-1101, Revision 04, have been reduced from those specified in SB A320-57-1101, Revision 02; and from those thresholds specified in Airbus SB A320-57-1101, Revision 03, dated July 30, 2003, which added three additional mounting holes to the area subject to the repetitive inspections. The Direction Générale de l'Aviation Civile (DGAC), which is the airworthiness authority for France, mandated SB A320-57-1101, Revision 03, and issued French airworthiness directive F-2004-166, dated October 13, 2004, to ensure the continued airworthiness of these airplanes in France. Airbus SB A320-57-1101, Revision 04—which was released after the issuance of French airworthiness directive F-2004-166—is also acceptable for accomplishing the requirements of this AD.

We have reviewed later revisions of Airbus SB A320-57-1100, dated July 28, 1997, which is designated as the appropriate source of information for accomplishing the optional terminating action specified in paragraph (b) of AD 2004-07-15. Those later revisions are Airbus SB A320-57-1100, Revision 01, dated June 4, 1999; Revision 02, dated October 25, 2001; and Revision 03, dated January 16, 2003. Though not specified in AD 2004-07-15, SB A320-57-1100 includes Appendix 01 only, while SB A320-57-1100, Revisions 01, 02, and 03 include Appendices 01 and 02. Any revision of SB A320-57-1100 is considered an acceptable source of service information for accomplishing the optional terminating action specified in paragraph (b) of AD 2004-07-15, which is restated as paragraph (g) of this AD.

FAA's Determination and Requirements of This AD

This airplane model is manufactured in France and is type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that we need to issue an AD for products of this type design that are certificated for operation in the United States.

We are issuing this AD to supersede AD 2004-07-15. This new AD continues to require repetitive inspections to detect fatigue cracking in the area surrounding certain attachment holes of the forward pintle fittings of the MLG and the actuating cylinder anchorage fittings on the inner rear spar; and repair, if necessary; and additional inspections and repairs, if necessary; as specified in the service information described previously; except as discussed under “Difference Between French Airworthiness Directive and This AD” and “Differences Between This AD and Service Information.”

Difference Between French Airworthiness Directive and This AD

The applicability of French airworthiness directive F-2004-166 excludes airplanes on which Airbus SB A320-57-1100 was accomplished in service. However, we have not excluded those airplanes in the applicability of this AD; rather, this AD includes a requirement to accomplish the actions specified in SB A320-57-1101, Revision 04, and provides for doing SB A320-57-1100 as an optional terminating action for the actions in SB A320-57-1101. This requirement will ensure that the actions specified in SB A320-57-1101, Revision 04, are accomplished on all affected airplanes. Operators must continue to operate the airplane in the configuration required by this AD unless an alternative method of compliance (AMOC) is approved.

Differences Between This AD and Service Information

Airbus SB A320-57-1101, Revision 04, does not describe any method or service information to be used to repair any crack discovered during any inspection specified by the service information. Therefore, this AD requires operators to use a repair method that we or the DGAC (or its delegated agent) approve.

Although the service bulletins describe procedures for reporting inspection findings to Airbus, this AD does not require such a report.

Explanation of Change to Applicability

We have revised the applicability of the existing AD to identify model designations as published in the most recent type certificate data sheet for the affected models.

Change to Existing AD

This AD would retain certain requirements of AD 2004-07-15. Since AD 2004-07-15 was issued, the AD format has been revised, and certain paragraphs have been rearranged. As a result, the corresponding paragraph identifiers have changed in this AD, as listed in the following table:

Revised Paragraph Identifiers
Requirement in AD 2004-07-15 | Corresponding requirement in this proposed AD
Paragraph (a) | Paragraph (f).
Paragraph (b) | Paragraph (g).
Paragraph (c) | Paragraph (h).
Paragraph (d) | Paragraph (i).
Paragraph (e) | Paragraph (j).
Paragraph (f) | Paragraph (m).

Clarification of AMOC Paragraph

We have revised this action to clarify the appropriate procedure for notifying the principal inspector before using any approved AMOC on any airplane to which the AMOC applies.

Costs of Compliance

None of the airplanes affected by this action are on the U.S. Register. All airplanes included in the applicability of this AD currently are operated by non-U.S. operators under foreign registry; therefore, they are not directly affected by this AD action. However, we consider that this AD is necessary to ensure that the unsafe condition is addressed in the event that any of these subject airplanes are imported and placed on the U.S. Register in the future.

If an affected airplane is imported and placed on the U.S. Register in the future, it would require approximately 22 work hours to accomplish the required actions at an average labor rate of $65 per work hour. Based on these figures, the cost impact of this AD would be $1,430 per airplane.

If an operator elects to accomplish the optional terminating action provided by this AD, it would take approximately 520 work hours to accomplish, at an average labor rate of $65 per work hour. The cost of required parts would be approximately $17,540 per airplane. Based on these figures, the cost impact of the optional terminating action would be $51,340 per airplane.

FAA's Determination of the Effective Date

No airplane affected by this AD is currently on the U.S. Register. Therefore, providing notice and opportunity for public comment is unnecessary before this AD is issued, and this AD may be made effective in less than 30 days after it is published in the Federal Register.

Comments Invited

This AD is a final rule that involves requirements that affect flight safety and was not preceded by notice and an opportunity for public comment; however, we invite you to submit any relevant written data, views, or arguments regarding this AD. Send your comments to an address listed in the ADDRESSES section. Include “Docket No. FAA-2006-23935; Directorate Identifier 2005-NM-060-AD” at the beginning of your comments. We specifically invite comments on the overall regulatory, economic, environmental, and energy aspects of the AD that might suggest a need to modify it.

We will post all comments we receive, without change, to http://dms.dot.gov, including any personal information you provide. We will also post a report summarizing each substantive verbal contact with FAA personnel concerning this AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the National Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-13559 (69 FR 17906, April 6, 2004) and by adding the following new airworthiness directive (AD):

2006-04-11 Airbus: Amendment 39-14492. Docket No. FAA-2006-23935; Directorate Identifier 2005-NM-060-AD.

Effective Date

(a) This AD becomes effective March 8, 2006.

Affected ADs

(b) This AD supersedes AD 2004-07-15.

Applicability

(c) This AD applies to Airbus Model A321-111, -112, and -131 airplanes, certificated in any category; all manufacturer serial numbers (MSN), except MSN 364 and 365; and except for those airplanes that have received Airbus Modification 24977 in production.

Unsafe Condition

(d) This AD results from manufacturer analysis of the fatigue and damage tolerance of the area surrounding certain mounting holes of the main landing gear (MLG). The FAA is issuing this AD to detect and correct fatigue cracking on the inner rear spar of the wings, which could result in reduced structural integrity of the airplane.

Compliance

(e) You are responsible for having the actions required by this AD performed within the compliance times specified, unless the actions have already been done.

Restatement of Requirements of AD 2004-07-15

Repetitive Inspections and Corrective Actions

(f) Prior to the accumulation of 20,000 total flight cycles, or within 120 days after December 18, 1998 (the effective date of AD 98-25-05, amendment 39-10928), whichever occurs later, perform an ultrasonic inspection to detect fatigue cracking in the area surrounding certain attachment holes of the forward pintle fittings of the MLG and the actuating cylinder anchorage fittings on the inner rear spar, in accordance with Airbus Service Bulletin A320-57-1101, dated July 24, 1997; or Revision 02, dated October 25, 2001.

(1) If no cracking is detected, prior to further flight, repair the sealant in the inspected areas and repeat the ultrasonic inspections thereafter at intervals not to exceed 7,700 flight cycles, until paragraph (g), (i), or (k) of this AD is accomplished.

(2) If any cracking is detected, prior to further flight, repair in accordance with a method approved by either the Manager, International Branch, ANM-116, Transport Airplane Directorate, FAA; or the Direction Generale de l'Aviation Civile (DGAC) (or its delegated agent).

Optional Terminating Action

(g) Accomplishment of visual and eddy current inspections to detect cracking in the area surrounding certain attachment holes of the forward pintle fittings of the MLG and the actuating cylinder anchorage fittings on the inner rear spar; follow-on corrective actions, as applicable; and rework of the attachment holes; in accordance with Airbus Service Bulletin A320-57-1100, including Appendix 01, dated July 28, 1997; or Revision 03, including Appendices 01 and 02, dated January 16, 2003; constitutes terminating action for the repetitive inspection requirements of this AD. Actions accomplished in accordance with Airbus Service Bulletin A320-57-1100, Revision 01, including Appendices 01 and 02, dated June 4, 1999; or Revision 02, including Appendices 01 and 02, dated October 25, 2001; are considered acceptable for compliance with the optional terminating action specified in this paragraph. If any cracking is detected during accomplishment of any inspection described in the service bulletin, and the service bulletin specifies to contact Airbus for appropriate action: Prior to further flight, repair in accordance with a method approved by either the Manager, International Branch, ANM-116; or the DGAC (or its delegated agent).

Repetitive Inspections for Airplanes Not Previously Inspected Per Paragraph (f)

(h) For airplanes on which the initial inspection required by paragraph (f) of this AD has not been accomplished as of April 21, 2004 (the effective date of AD 2004-07-15): Accomplish the inspection required by paragraph (f) of this AD, at the earlier of the times specified in paragraphs (h)(1) and (h)(2) of this AD. If no cracking is found, repeat the inspection thereafter at intervals not to exceed 5,500 flight cycles or 10,200 flight hours, whichever occurs first, until paragraph (g) or (k) of this AD is accomplished. Accomplishment of this paragraph eliminates the need to accomplish repetitive inspections at the intervals required by paragraph (f)(1) of this AD.

(1) Prior to the accumulation of 20,000 total flight cycles.

(2) Prior to the accumulation of 37,300 total flight hours, or within 120 days after April 21, 2004, whichever occurs later.

Repetitive Inspections for Airplanes Previously Inspected Per Paragraph (f)

(i) For airplanes on which the initial inspection required by paragraph (f) of this AD has been accomplished as of April 21, 2004, and no cracking was found: Do the next inspection at the earlier of the times specified in paragraphs (i)(1) and (i)(2) of this AD, and repeat the inspection thereafter at intervals not to exceed 5,500 flight cycles or 10,200 flight hours, whichever occurs first, until paragraph (g) or (k) of this AD is accomplished. Accomplishment of this paragraph terminates the repetitive inspections required by paragraph (f)(1) of this AD.

(1) Within 7,700 flight cycles since the most recent inspection.

(2) At the later of the times specified in paragraph (i)(2)(i) or (i)(2)(ii) of this AD:

(i) Within 5,500 flight cycles or 10,200 flight hours since the most recent inspection, whichever occurs first.

(ii) Within 120 days after April 21, 2004.

Existing Repair

(j) If any cracking is detected during any inspection required by paragraph (h) or (i) of this AD: Prior to further flight, repair in accordance with a method approved by either the Manager, International Branch, ANM-116; or the DGAC (or its delegated agent).

New Requirements of This AD

Initial and Repetitive Inspections

(k) Within the applicable compliance times specified by paragraph (k)(1), (k)(2), or (k)(3) of this AD, perform an ultrasonic inspection for cracking of the attachment holes of the MLG pintle fittings in the inner rear spar in accordance with the Accomplishment Instructions of Airbus Service Bulletin A320-57-1101, Revision 03, dated July 30, 2003; or Revision 04, dated November 22, 2004. If no cracking is found, repeat the inspection thereafter at intervals not to exceed 5,500 flight cycles or 10,200 flight hours, whichever occurs first, until paragraph (g) of this AD is accomplished. Accomplishment of this paragraph terminates the repetitive inspections required by paragraphs (f)(1), (h), and (i) of this AD.

(1) For airplanes that have never been inspected in accordance with Airbus Service Bulletin A320-57-1101, dated July 24, 1997; or Revision 02, dated October 25, 2001: Before the accumulation of 20,000 total flight cycles or 37,300 total flight hours, whichever occurs first; or within 120 days after the effective date of this AD; whichever occurs later.

(2) For airplanes previously inspected in accordance with Airbus Service Bulletin A320-57-1101, dated July 24, 1997; or Revision 02, dated October 25, 2001, that have accumulated less than 18,900 total flight cycles or 35,300 total flight hours as of the effective date of this AD: Within 5,500 flight cycles or 10,200 flight hours, whichever occurs first, after the previous inspection performed in accordance with Airbus Service Bulletin A320-57-1101, Revision 02, dated October 25, 2001; or within 120 days after the effective date of this AD; whichever occurs later.

(3) For airplanes previously inspected in accordance with Airbus Service Bulletin A320-57-1101, dated July 24, 1997; or Revision 02, dated October 25, 2001, that have accumulated 18,900 or more flight cycles or 35,300 or more flight hours as of the effective date of this AD: Before the accumulation of 24,400 total flight cycles or 45,600 total flight hours, whichever occurs first; or within 120 days after the effective date of this AD; whichever occurs later.

New Repair

(l) If any crack is detected during any inspection required by paragraph (k) of this AD: Prior to further flight, repair in accordance with a method approved by either the Manager, International Branch, ANM-116; or the DGAC (or its delegated agent).

No Reporting Requirement

(m) Although Airbus Service Bulletin A320-57-1101, Revision 02, dated October 25, 2001; and Revision 04, dated November 22, 2004; describe procedures for reporting inspection findings to Airbus, this AD does not require such a report.

Alternative Methods of Compliance (AMOCs)

(n)(1) The Manager, International Branch, ANM-116, has the authority to approve AMOCs for this AD, if requested in accordance with the procedures found in 14 CFR 39.19.

(2) Before using any AMOC approved in accordance with 14 CFR 39.19 on any airplane to which the AMOC applies, notify the appropriate principal inspector in the FAA Flight Standards Certificate Holding District Office.

Related Information

(o) French airworthiness directive F-2004-166, dated October 13, 2004, also addresses the subject of this AD.

Material Incorporated by Reference

(p) You must use the service information specified in Table 1 of this AD to perform the actions that are required by this AD, unless the AD specifies otherwise.

Table 1.—All Material Incorporated by Reference
Airbus service bulletin | Revision level | Date
A320-57-1100, including Appendix 01 | Original | July 28, 1997.
A320-57-1100, including Appendices 01 and 02 | 03 | January 16, 2003.
A320-57-1101 | Original | July 24, 1997.
A320-57-1101 | 02 | October 25, 2001.
A320-57-1101 | 03 | July 30, 2003.
A320-57-1101 | 04 | November 22, 2004.

The optional terminating action specified in paragraph (g) of this AD should be done in accordance with the service bulletins specified in Table 2 of this AD.

Table 2.—Optional Service Bulletins
Airbus service bulletin | Revision level | Date
A320-57-1100, including Appendix 01 | Original | July 28, 1997.
A320-57-1100, including Appendices 01 and 02 | 03 | January 16, 2003.

(1) The Director of the Federal Register approved the incorporation by reference of the service bulletins specified in Table 3 of this AD, in accordance with 5 U.S.C. 552(a) and 1 CFR part 51.

Table 3.—New Material Incorporated by Reference
Airbus service bulletin | Revision level | Date
A320-57-1100, including Appendix 01 | Original | July 28, 1997.
A320-57-1100, including Appendices 01 and 02 | 03 | January 16, 2003.
A320-57-1101 | 03 | July 30, 2003.
A320-57-1101 | 04 | November 22, 2004.

(2) The incorporation by reference of Airbus Service Bulletin A320-57-1101, Revision 02, dated October 25, 2001, was approved previously by the Director of the Federal Register as of April 21, 2004 (69 FR 17906, April 6, 2004).

(3) The incorporation by reference of Airbus Service Bulletin A320-57-1101, dated July 24, 1997, was approved previously by the Director of the Federal Register as of December 18, 1998 (63 FR 66753, December 3, 1998).

(4) Contact Airbus, 1 Rond Point Maurice Bellonte, 31707 Blagnac Cedex, France, for a copy of this service information. You may review copies at the Docket Management Facility, U.S. Department of Transportation, 400 Seventh Street SW., room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on February 9, 2006.
Kalene C. Yanamura,
Acting Manager, Transport Airplane Directorate, Aircraft Certification Service.

[FR Doc. 06-1504 Filed 2-17-06; 8:45 am]

BILLING CODE 4910-13-P